DEPARTMENT OF THE INTERIOR

Bureau of Land Management

[C0-100-07-0777-XX]

Notice of Public Meetings, Northwest Colorado Resource Advisory Council Meetings

AGENCY: Bureau of Land Management.

ACTION: Notice of Public Meetings.

SUMMARY: In accordance with the Federal Land Policy and Management Act (FLPMA) and the Federal Advisory Committee Act of 1972 (FACA), the U.S. Department of the Interior, Bureau of Land Management (BLM) Northwest Colorado Resource Advisory Council (RAC) will meet as indicated below.

DATES: The Northwest Colorado RAC has scheduled meetings for February 14, 2008; May 22, 2008; August 21, 2008; and December 4, 2008.

ADDRESSES: The Northwest Colorado RAC meetings will be held February 14, 2008, in Glenwood Springs, CO, at the Glenwood Springs Community Center, 100 Wulfsohn Road; May 22, 2007, in Steamboat Springs, CO, at Citizen's Hall 124 10th St.; and August 21, 2008, in Kremmling, CO, at the Chamber of Commerce, 203 Park Avenue. The December 4, 2008 meeting will be held at a location to be determined within Grand Junction Field Office. An additional Federal Register Notice will be issued announcing that meeting.

All Northwest Colorado RAC meetings will begin at 8 a.m. and adjourn at approximately 3 p.m., with public comment periods regarding matters on the agenda at 10 a.m. and 2 p.m.

FOR FURTHER INFORMATION CONTACT: Jamie Connell, BLM Glenwood Springs Field Manager, 50629 Hwy. 6&24, Glenwood Springs, CO; telephone 970-947-2800; or David Boyd, Public Affairs Specialist, 50629 Hwy. 6&24, Glenwood Springs, CO; telephone 970-947-2832.

SUPPLEMENTARY INFORMATION: The Northwest Colorado RAC advises the Secretary of the Interior, through the Bureau of Land Management, on a variety of public land issues in Colorado.

Topics of discussion during Northwest Colorado RAC meetings may include the BLM National Sage Grouse Conservation Strategy, working group reports, recreation, fire management, land use planning, invasive species management, energy and minerals management, travel management, wilderness, wild horse herd management, land exchange proposals, cultural resource management, and other issues as appropriate.

These meetings are open to the public. The public may present written comments to the RACS. Each formal RAC meeting will also have time, as identified above, allocated for hearing public comments. Depending on the number of persons wishing to comment and time available, the time for individual oral comments may be limited.

Dated: January 10, 2008
David Boyd,
Acting Glenwood Springs Field Manager, Lead Designated Federal Officer for the Northwest Colorado RAC.

[FR Doc. 08-169 Filed 1-18-08; 8:45 am]

BILLING CODE 4310-JB-M